DEPARTMENT OF THE TREASURY

Agency Information Collection Activities; Submission for OMB Review; Comment Request; Labeling and Advertising Requirements Under the Federal Alcohol Administration Act

AGENCY: Departmental Offices, U.S. Department of the Treasury.

ACTION: Notice of information collection, request for comment.

SUMMARY: The Department of the Treasury will submit the following information collection requests to the Office of Management and Budget (OMB) for review and clearance in accordance with the Paperwork Reduction Act of 1995, on or after the date of publication of this notice. The public is invited to submit comments on these requests.

DATES: Comments should be received on or before July 29, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202)-622-1035, or viewing the entire information collection request at www.reginfo.gov.

SUPPLEMENTARY INFORMATION:

Alcohol and Tobacco Tax and Trade Bureau (TTB), Treasury

Title: Labeling and Advertising Requirements Under the Federal Alcohol Administration Act.

OMB Number: 1513-0087.

Abstract: As required by the Federal Alcohol Administration Act (FAA Act), the Secretary has issued regulations regarding the labeling and advertising of wine, distilled spirits, and malt beverages. The FAA Act provides that these regulations should, among other things, prohibit consumer deception and the use of misleading statements on labels and ensure that labels provide the consumer with adequate information as to the identity and quality of the product. See 27 U.S.C. 205(e) and (f). The implementing regulations are contained in 27 CFR parts 4 (wine), 5 (distilled spirits), and 7 (malt beverages). Under those regulations, alcohol beverage bottlers and importers must provide certain mandatory information on labels and in advertisements of such products, and that information must conform to certain presentation standards. TTB uses those mandatory information requirements and presentation standards to ensure that the provisions of the FAA Act are appropriately applied.

Type of Review: Extension of a currently approved collection.

Affected Public: Businesses or other for-profits.

Number of Respondents: 13,000.

Average Responses per Respondent: 1 (one).

Number of Responses: 13,000.

Average Per-Response Burden: 1 hour.

Total Burden: 13,000 hours.

Authority: 44 U.S.C. 3501 et seq.

Melody Braswell,
Treasury PRA Clearance Officer.

[FR Doc. 2022-13924 Filed 6-28-22; 8:45 am]

BILLING CODE 4810-31-P